DEPARTMENT OF THE INTERIOR

National Park Service

Notice of Inventory Completion for Native American Human Remains and Associated Funerary Objects in the Possession of the University of Alaska Museum, Fairbanks, AK and in the Control of the U.S. Department of Interior, Bureau of Land Management, Alaska State Office, Anchorage, AK

AGENCY: National Park Service, Interior.

ACTION: Notice.

Notice is hereby given in accordance with provisions of the Native American Graves Protection and Repatriation Act (NAGPRA), 43 CFR 10.9, of the completion of an inventory of human remains and associated funerary objects in the possession of the University of Alaska Museum, Fairbanks, AK and in the control of the U.S. Department of Interior, Bureau of Land Management, Alaska State Office, Anchorage, AK.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Bureau of Land Management and University of Alaska Museum professional staff in consultation with representatives of McGrath Native Village.

In 1961, human remains representing one individual were recovered from a site 3/4 of a mile upriver from McGrath Native Village on lands controlled by the Bureau of Land Management following their disturbance by a bulldozer operated by person(s) unknown. These human remains were given to the University of Alaska Museum, Fairbanks, AK, by Pete Egres. No known individual was identified. No associated funerary objects are present.

Based on geographic location, this individual has been identified as Native American. Based on the estimated age of the human remains (early 20th century or before), oral tradition, and evidence of traditional use of the area, this individual has been culturally affiliated with McGrath Native Village.

Based on the above-mentioned information, officials of the Bureau of Land Management have determined that, pursuant to 43 CFR 10.2 (d)(1), the human remains listed above represent the physical remains of one individual of Native American ancestry. Officials of the Bureau of Land Management also have determined that, pursuant to 43 CFR 10.2 (e), there is a relationship of shared group identity that can be reasonably traced between these Native American human remains and McGrath Native Village. This notice has been sent to officials of McGrath Native Village. Representatives of any other Indian tribe that believes itself to be culturally affiliated with these human remains should contact Dr. Robert E. King, Alaska State NAGPRA Coordinator, Bureau of Land Management, 222 West 7th Avenue, #13, Anchorage, AK 99513-7599, telephone (907) 271-5510, before March 23, 2001. Repatriation of the human remains to McGrath Native Village may begin after that date if no additional claimants come forward.

Dated: February 6, 2001.
John Robbins,
Assistant Director, Cultural Resources Stewardship and Partnerships.

[FR Doc. 01-4298 Filed 2-20-01; 8:45 am]

BILLING CODE 4310-70-F